DEPARTMENT OF HEALTH AND HUMAN SERVICES

Centers for Disease Control and Prevention

[CDC-2014-0014; Docket Number NIOSH-275]

Issuance of Final Guidance Publication

AGENCY: National Institute for Occupational Safety and Health (NIOSH) of the Centers for Disease Control and Prevention (CDC), Department of Health and Human Services (HHS).

ACTION: Notice of issuance of final guidance publication.

SUMMARY: The National Institute for Occupational Safety and Health (NIOSH) of the Centers for Disease Control and Prevention (CDC), announces the availability of the following publication: National Occupational Research Agenda (NORA) National Total Worker Health® Agenda (2016-2026): A National Agenda to Advance Total Worker Health® Research, Practice, Policy, and Capacity [2016-114].

ADDRESSES: This document may be obtained at the following link http://www.cdc.gov/niosh/docs/2016-114/.

FOR FURTHER INFORMATION CONTACT: Sara L. Tamers, Ph.D., MPH, NIOSH/CDC, Telephone: (202) 245-0677, Fax: (202) 245-0664 (not toll-free numbers), email: STamers@cdc.gov.

Dated: April 22, 2016.
Frank J. Hearl,
Chief of Staff, National Institute for Occupational Safety and Health, Centers for Disease Control and Prevention.

[FR Doc. 2016-09786 Filed 4-26-16; 8:45 am]

BILLING CODE 4163-19-P